ENVIRONMENTAL PROTECTION AGENCY

40 CFR Parts 60 and 63

[EPA-HQ-OAR-2020-0371; EPA-HQ-OAR-2022-0730; FRL-12066-01-OAR]

RIN 2060-AU97; 2060-AV71

New Source Performance Standards (NSPS) for the Synthetic Organic Chemical Manufacturing Industry (SOCMI) and National Emission Standards for Hazardous Air Pollutants (NESHAP) for the SOCMI and Group I & II Polymers and Resins Industry and NESHAP: Gasoline Distribution Technology Reviews and NSPS Review for Bulk Gasoline Terminals; Correction

AGENCY: Environmental Protection Agency (EPA).

ACTION: Final rule, correction.

SUMMARY: The Environmental Protection Agency (EPA) is correcting final rules that appeared in the Federal Register on May 8, 2024, and May 16, 2024. This action corrects instructions allowing Office of Federal Register editors to codify the amendments from the rules. This action also includes express instructions to lift the stay of provisions granted on June 2, 2008 (73 FR 31372). The corrections to instructions in this document do not alter or change the content or text of any regulatory provision.

DATES: The correction to 40 CFR 63.11099, at instruction 6, is effective July 8, 2024. The corrections to 40 CFR 60.481, 60.482-1, 60.481a, 60.482-1a, and 60.482-11a, at instructions 1 through 5, are effective July 15, 2024.

FOR FURTHER INFORMATION CONTACT: For the Gasoline Distribution rules, contact U.S. EPA, Attn: Ms. Jennifer Caparoso, Mail Drop: E143-01, 109 T.W. Alexander Drive, P.O. Box 12055, RTP, NC 27711; telephone number: (919) 541-4063; and email address: caparoso.jennifer@epa.gov. For the Synthetic Organic Chemical Manufacturing Industry rules, contact U.S. EPA, Attn: Mr. Andrew Bouchard, Mail Drop: E143-01, 109 T.W. Alexander Drive, P.O. Box 12055, RTP, North Carolina 27711; telephone number: (919) 541-4036; and email address: bouchard.andrew@epa.gov.

SUPPLEMENTARY INFORMATION: The EPA published two final actions, 89 FR 39304 (May 8, 2024) and 89 FR 42932 (May 16, 2024), that amended 40 CFR part 63, subpart BBBBBB, and 40 CFR part 60, subparts VV and VVa, respectively. The Office of Federal Register (OFR) editor is unable to carry out certain instructions of the rules as currently written. This action corrects the instructions allowing OFR editors to codify the amendments from each rule. Additionally, this action includes express instructions in the amendatory text to lift the stay of the definition of “Process unit” and the method of allocating shared storage vessels in 40 CFR part 60, subpart VV, as well as the stay of the definitions of “Process unit” and “Capital expenditure” and the method of allocating shared storage vessels in 40 CFR part 60, subpart VVa.

Corrections

In FR Doc. 2024-07002, appearing in page 42932 in the Federal Register of Thursday, May 16, 2024, the following corrections are made:

§ 60.481 [Corrected]

1. Effective July 15, 2024, on page 43068, in the second column, in part 60, amendatory instruction 4 is corrected to read as follows:

“▪ 4. Amend § 60.481 by lifting the stay on the definition of “Process unit” and revising the definition of “Process unit”.

The revision reads as follows:”

§ 60.482-1 [Corrected]

2. Effective July 15, 2024, on page 43068, in the second column, in part 60, amendatory instruction 5 is corrected to read as follows:

“▪ 5. Amend § 60.482-1 by lifting the stay on paragraph (g) and removing paragraph (g).”

§ 60.481a [Corrected]

3. Effective July 15, 2024, on page 43070, in the second column, in part 60, amendatory instruction 11 is corrected to read as follows:

“▪ 11. Amend § 60.481a by lifting the stay on the definitions of “Capital expenditure” and “Process unit” and revising the definitions to read as follows:”

§ 60.482-1a [Corrected]

4. Effective July 15, 2024, on page 43070, in the first column, in part 60, amendatory instruction 12 is corrected to read as follows:

“▪ 12. Amend § 60.482-1a by:

a. Revising paragraph (e); and

b. Lifting the stay on paragraph (g) and removing paragraph (g).

The revisions read as follows:”

§ 60.482-11a [Corrected]

5. Effective July 15, 2024, on page 43070, in the second column, in part 60, amendatory instruction 13 is corrected to read as follows:

“▪ 13. Amend § 60.482-11a by lifting the stay and removing the section.”

In FR Doc. 2024-04629, appearing on page 39304 in the Federal Register on Wednesday, May 8, 2024, the following correction is made:

§ 63.11099 [Corrected]

6. Effective July 8, 2024, on page 39383, in the third column, in part 63, amendatory instruction 29 is corrected to read as follows:

“▪ 29. Section 63.11099 is amended by revising paragraph (c) introductory text and adding paragraph (c)(5) to read as follows:”

Joseph Goffman,
Assistant Administrator.

[FR Doc. 2024-14678 Filed 7-3-24; 8:45 am]

BILLING CODE 6560-50-P